DEPARTMENT OF HOMELAND SECURITY

U.S. Customs and Border Protection

[OMB Control Number 1651-0111]

Agency Information Collection Activities; Revision; Arrival and Departure Record (Form I-94) and Electronic System for Travel Authorization (ESTA)

AGENCY: U.S. Customs and Border Protection (CBP), Department of Homeland Security.

ACTION: 60-Day notice and request for comments.

SUMMARY: The Department of Homeland Security, U.S. Customs and Border Protection (CBP) will be submitting the following information collection request to the Office of Management and Budget (OMB) for review and approval in accordance with the Paperwork Reduction Act of 1995 (PRA). The information collection is published in the Federal Register to obtain comments from the public and affected agencies.

DATES: Comments are encouraged and must be submitted (no later than February 9, 2026) to be assured of consideration.

ADDRESSES: Written comments and/or suggestions regarding the item(s) contained in this notice must include the OMB Control Number 1651-0111 in the subject line and the agency name. Please submit written comments and/or suggestions in English. Please use the following method to submit comments:

Email: Submit comments to: CBP_PRA@cbp.dhs.gov.

FOR FURTHER INFORMATION CONTACT: Requests for additional PRA information should be directed to Seth Renkema, Chief, Economic Impact Analysis Branch, U.S. Customs and Border Protection, Office of Trade, Regulations and Rulings, 90 K Street NE, 10th Floor, Washington, DC 20229-1177, Telephone number 202-325-0056 or via email CBP_PRA@cbp.dhs.gov. Please note that the contact information provided here is solely for questions regarding this notice. Individuals seeking information about other CBP programs should contact the CBP National Customer Service Center at 877-227-5511, (TTY) 1-800-877-8339, or CBP website at https://www.cbp.gov/.

SUPPLEMENTARY INFORMATION: CBP invites the general public and other Federal agencies to comment on the proposed and/or continuing information collections pursuant to the Paperwork Reduction Act of 1995 (44 U.S.C. 3501 et seq.). This process is conducted in accordance with 5 CFR 1320.8. Written comments and suggestions from the public and affected agencies should address one or more of the following four points: (1) whether the proposed collection of information is necessary for the proper performance of the functions of the agency, including whether the information will have practical utility; (2) the accuracy of the agency's estimate of the burden of the proposed collection of information, including the validity of the methodology and assumptions used; (3) suggestions to enhance the quality, utility, and clarity of the information to be collected; and (4) suggestions to minimize the burden of the collection of information on those who are to respond, including through the use of appropriate automated, electronic, mechanical, or other technological collection techniques or other forms of information technology, e.g., permitting electronic submission of responses. The comments that are submitted will be summarized and included in the request for approval. All comments will become a matter of public record.

Overview of This Information Collection

Title: Arrival and Departure Record (Form I-94) and Electronic System for Travel Authorization (ESTA).

OMB Number: 1651-0111.

Form Number: I-94.

Current Actions: Revision.

Type of Review: Revision.

Affected Public: Individuals.

Abstract: CBP invites the public to comment on the following changes listed below, that were submitted to and approved by OMB through an emergency clearance, with the justification of an unanticipated event and reasons to believe following the normal PRA process would result in public harm.

1. Voluntary Self-Reported Exit (VSRE) Pilot and I-94 Automation: CBP is implementing a new functionality within the CBP Home mobile application, or any successor mobile application, to allow aliens who are subject to I-94 requirements and who are departing the United States, to voluntarily provide biographic data from their passports or other travel documents, facial images, and geolocation to provide evidence of that departure. Note that while the use of this functionality is optional, submitting a facial image is a required part of this functionality. This collection of data is a part of CBP's critical efforts to fulfill DHS's statutory mandate to collect biometric information from departing aliens and CBP's plans to fully automate I-94 information collection. This capability will close the information gap on alien entries and exits by making it easier for aliens subject to I-94 requirements to report their exit to CBP after their departure from the United States. It will also create a biometrically confirmed, and thereby more accurate, exit record for such aliens leaving the United States.

CBP will use geolocation services to confirm that the traveler reporting their departure is outside the United States, as well as, run “liveness detection” software to determine that the selfie photo is a live photo, as opposed to a previously uploaded photo. The mobile application will then compare the facial image submitted to facial images for that person already retained by CBP to confirm the exit biometrically. CBP will use this information to help reconcile a traveler's exit with that traveler's last arrival. The report of exit will be recorded as a confirmed departure in the Arrival and Departure Information System (ADIS) maintained by CBP. Aliens can use this information as proof of departure, which is most relevant in the land border environment, but may be used for departures via air and sea if a traveler desires. This is also beneficial for the alien, as having proof of an exit via a CBP mobile application provides travelers with evidence for Officers to consider in the event that the Officer is unsure whether a nonimmigrant complied with I-94 requirements during their previous entry.

2. Photo Upload for ESTA Website and Mobile: CBP intends to update the ESTA application website to require applicants to provide a photograph of their face, or “selfie”, in addition to the photo of the passport biographical page. In addition, CBP intends to update the mobile application and require third party submissions to include a “selfie” or photograph of the applicant's face. These photos would be used to better ensure that the applicant is the rightful possessor of the document being used to obtain an ESTA authorization.

Currently, applicants are allowed to have a third party apply for an ESTA on their behalf. While this update would not remove that option, third parties, such as travel agents or family members, would be required to provide a photograph of the ESTA applicant.

As noted previously, the ESTA Mobile application currently requires applicants to take a live photograph of their face, which is compared to the passport photo collected during the ESTA Mobile application process. This change will better align the application processes and requirements for ESTA website and ESTA Mobile applicants.

3. VWP Burden of Information Collection Increase: CBP has calculated the estimated burden for this information collection to account for additional countries added into the VWP over the next three years. As an ESTA is required for any travel to the United States under the VWP, the collection is being updated to include travelers from current VWP designated countries and travelers from potentially added designated countries over the next three years.

Additionally, CBP recently revised the collection to add Qatar into the VWP. CBP invites the public to comment on the PRA burden of the Visa Waiver Program Designation (VWP) changes.

CBP also invites the public to comment on the newly proposed changes listed below:

1. ESTA Website Decommission: CBP will decommission the ESTA website Application process to establish the ESTA Mobile application as the sole platform to apply for a new ESTA.

CBP intends to require applicants to submit ESTA applications solely via the ESTA Mobile application; consequently, travelers would no longer be permitted to submit ESTA applications using the existing ESTA website. CBP believes that moving to a mobile-only approach for ESTA submissions will both enhance security and improve efficiency. The ESTA website would remain available as a resource for information about the ESTA program, as well as allow applicants to check the status of their ESTA applications but will not be used to collect information from applicants.

Currently, applicants can apply for an ESTA via the ESTA website or the ESTA Mobile application. However, poor quality image uploads to the ESTA website have resulted in applicants bypassing the facial comparison screening. A case study from the National Targeting Center (NTC) Traveler Application Security Unit (TASU) of a poor-quality passport photo submission demonstrates the increased accuracy of live mobile image capture over web-based uploads. NTC TASU identified over 2,400 poor quality passport biographical page uploads and over 8,000 invalid passport photos that led to negative or failed photo comparison screenings. CBP believes that travelers are aware of this vulnerability and have begun to exploit it by purposely uploading poor quality images to avoid detection.

Additionally, CBP continues to struggle with fraudulent third-party websites. Third-party fraudulent websites charge travelers exorbitant fees to process an application, where many of these applications may never be processed by CBP, resulting in a traveler being unable to board a U.S. bound plane.

Lastly, unlike ESTA Mobile, the ESTA website is unable to validate the authenticity of the passport through the certificates embedded on the electronic chip (e-Chip). Bad actors exploit this vulnerability to apply for an ESTA. NTC TASU has discovered hundreds of fraudulent ESTAs created by facilitators to support visa applications. These facilitators uploaded fraudulent passport bio pages to obtain approved ESTAs. travelers then presented official ESTA printouts, falsely claiming the ESTA holder was a spouse, to strengthen their visa applications.

The ESTA Mobile application provides superior identity verification methods, including liveness detection, facial recognition and Near Field Communication (NFC)-based passport scanning/electronic chip verification. Applying for an ESTA on the website does not allow NFC verification of an ePassport, unlike when using the mobile app. The current ESTA Mobile submission process includes retrieving biographic information and portrait photo from the e-Chip, matching the portrait with a live selfie via the CBP Traveler Verification Service (TVS), and auto-denying applications that fail Country Signing Certificate validation from the Traveler Document Authentication System.

While transitioning to a mobile-only ESTA system may present some initial challenges, the long-term benefits, including enhanced security and fraud reduction, make the transition a viable national security decision. CBP believes the continued evolution of mobile technology will further streamline and secure the traveler authentication process, paving the way for future advancements in contactless verification and biometric authentication.

2. Romania Removal from Visa Waiver Program (VWP): Due to the removal of Romania from the approved list of countries under the VWP, CBP is updating relevant collections to reflect this removal. The public can refer to https://www.dhs.gov/visa-waiver-program for the list of approved countries under the VWP.

3. Mandatory Social Media: In order to comply with the January 2025 Executive Order 14161 (Protecting the United States From Foreign Terrorists and Other National Security and Public Safety Threats), CBP is adding social media as a mandatory data element for an ESTA application. The data element will require ESTA applicants to provide their social media from the last 5 years.

4. High Value Data Elements: To comply with the January 2025 E.O. (14161), and the April 4, 2025, Memorandum Updating All Forms to Collect Baseline Biographic Data, CBP will add several “high value data fields” to the ESTA application, when feasible. This is in addition to the information already collected in the ESTA application.

The high value data fields include:

a. Telephone numbers used in the last five years;

b. Email addresses used in the last ten years;

c. IP addresses and metadata from electronically submitted photos;

d. Family member names (parents, spouse, siblings, children);

e. Family number telephone numbers used in the last five years;

f. Family member dates of birth;

g. Family member places of birth;

h. Family member residencies;

i. Biometrics—face, fingerprint, DNA, and iris;

j. Business telephone numbers used in the last five years;

k. Business email addresses used in the last ten years.

CBP invites the public to comment on both the previously approved emergency changes and the newly proposed changes.

Type of Information Collection: Paper I-94.

Estimated Number of Respondents: 865,639.

Estimated Number of Annual Responses per Respondent: 1.

Estimated Number of Total Annual Responses: 865,639.

Estimated Time per Response: 8 minutes.

Estimated Total Annual Burden Hours: 115,418.

Type of Information Collection: I-94 website.

Estimated Number of Respondents: 2,278,054.

Estimated Number of Annual Responses per Respondent: 1.

Estimated Number of Total Annual Responses: 2,278,054.

Estimated Time per Response: 4 minutes.

Estimated Total Annual Burden Hours: 151,870.

Type of Information Collection: ESTA Mobile Application.

Estimated Number of Respondents: 14,484,073.

Estimated Number of Annual Responses per Respondent: 1.

Estimated Number of Total Annual Responses: 14,484,073.

Estimated Time per Response: 22 minutes.

Estimated Total Annual Burden Hours: 5,310,827.

Type of Information Collection: CBP Home.

Estimated Number of Respondents: 600,000.

Estimated Number of Annual Responses per Respondent: 1.

Estimated Number of Total Annual Responses: 600,000.

Estimated Time per Response: 2 minutes.

Estimated Total Annual Burden Hours: 20,000.

Seth D. Renkema,
Branch Chief, Economic Impact Analysis Branch, U.S. Customs and Border Protection.

[FR Doc. 2025-22461 Filed 12-9-25; 8:45 am]

BILLING CODE 9111-14-P